DEPARTMENT OF DEFENSE

Office of the Secretary

[Docket ID: DOD-2025-OS-0870]

Submission for OMB Review; Comment Request

AGENCY: Office of the Under Secretary of Defense for Personnel and Readiness (OUSD(P&R)), Department of Defense (DoD).

ACTION: 30-Day information collection notice.

SUMMARY: The Department of War has submitted to the Office of Management and Budget (OMB) for clearance the following proposal for collection of information under the provisions of the Paperwork Reduction Act.

DATES: Consideration will be given to all comments received by March 27, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title; Associated Form; and OMB Number: Collection of Required Data Elements to Verify Eligibility; OMB Control Number 0704-0545.

Type of Request: Extension.

Number of Respondents: 50,000.

Responses per Respondent: 1.

Annual Responses: 50,000.

Average Burden per Response: 5 minutes.

Annual Burden Hours: 4,166.67 hours.

Needs and Uses: Defense Manpower Data Center (DMDC) has implemented the Office of Personnel Management (OPM) Verification portal to provide a self-service, easy to use, navigable public facing website that allows individuals potentially impacted by the OPM data breach to securely provide personal identifiable information in order to investigate their eligibility for credit monitoring as a result of being affected by the OPM background investigation data breach without calling a Government call center. The information collected will be used only to verify whether an individual was impacted by the OPM cybersecurity incident involving background investigation records. Once the minimally required information has been entered into the OPM Verification portal, it will be compared to an electronic master file and verification will be accomplished electronically. After the Government has validated the individual's status, DMDC provides the information electronically to OPM and Defense Logistics Agency for subsequent processing.

Affected Public: Individuals or households.

Frequency: On occasion.

Respondent's Obligation: Voluntary.

DOD Clearance Officer: Mr. Reginald Lucas.

Dated: February 23, 2026.
Stephanie J. Bost,
Alternate OSD Federal Register Liaison Officer, Department of Defense.

[FR Doc. 2026-03732 Filed 2-24-26; 8:45 am]

BILLING CODE 6001-FR-P